DEPARTMENT OF TRANSPORTATION

Federal Aviation Administration

14 CFR Part 39

[Docket No. 2001-NM-216-AD]

RIN 2120-AA64

Airworthiness Directives; Airbus Model A300 B2 and B4 Series Airplanes; Model A300 B4-600, B4-600R, and F4-600R (Collectively Called A300-600) Series Airplanes; and Model A310 Series Airplanes

AGENCY: Federal Aviation Administration, DOT.

ACTION: Notice of proposed rulemaking (NPRM).

SUMMARY: This document proposes the adoption of a new airworthiness directive (AD) that is applicable to certain Airbus Model A300 B2 and B4 series airplanes; Model A300 B4-600, B4-600R, and F4-600R (collectively called A300-600) series airplanes; and Model A310 series airplanes. This proposal would require various modifications and repetitive inspections of the throttle control system, and follow-on actions if necessary. This action is necessary to prevent hard points in the throttle control system that could lead to jamming of the throttle control cable. Such jamming could result in an asymmetric thrust condition and consequent reduced controllability of the airplane. This action is intended to address the identified unsafe condition.

DATES: Comments must be received by December 1, 2003.

ADDRESSES: Submit comments in triplicate to the Federal Aviation Administration (FAA), Transport Airplane Directorate, ANM-114, Attention: Rules Docket No. 2001-NM-216-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-216-AD” in the subject line and need not be submitted in triplicate. Comments sent via the Internet as attached electronic files must be formatted in Microsoft Word 97 or 2000 or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-216-AD.” The postcard will be date stamped and returned to the commenter.

Availability of NPRMs

Any person may obtain a copy of this NPRM by submitting a request to the FAA, Transport Airplane Directorate, ANM-114, Attention: Rules Docket No. 2001-NM-216-AD, 1601 Lind Avenue, SW., Renton, Washington 98055-4056.

Discussion

The Direction Générale de l'Aviation Civile (DGAC), which is the airworthiness authority for France, notified the FAA that an unsafe condition may exist on certain Airbus Model A300 B2 and B4 series airplanes; Model A300 B4-600, B4-600R, and F4-600R (collectively called A300-600) series airplanes; and Model A310 series airplanes. The DGAC advises that operators have reported hard points in the throttle control system on these airplanes. These hard points have been attributed to various discrepancies in the throttle control system, such as accumulation and subsequent freezing of moisture in the throttle control cable (also called the “push-pull” cable) assembly; disconnection of the throttle control cable from the rack-box; stiffness of the throttle controls due to excessive wear, chafing, or other damage; or deterioration of the throttle control cable due to exposure to excessive heat. These conditions, if not corrected, could lead to jamming of the throttle control cable and result in an asymmetric thrust condition and consequent reduced controllability of the airplane.

Explanation of Relevant Service Information

Airbus has issued the following service bulletins:

• Service Bulletin A300-76-0007, Revision 06, dated August 23, 2001 (for certain Airbus Model A300 B2 and B4 series airplanes). That service bulletin describes procedures for installing a flexible ice protection boot on the upper fitting of the throttle and fuel shut-off valve control cables. This boot is intended to prevent accumulation of moisture at the end of the control cable assembly, which could freeze and result in jamming of the control cable.

• Service Bulletins A300-76-0015, Revision 02, dated August 23, 2001 (for certain Airbus Model A300 B2 and B4 series airplanes); and A310-76-2001, Revision 01, dated March 14, 2000 (for certain Model A310-203, -204, -221, and -222 series airplanes). These service bulletins describe procedures for installing a heating system for the throttle control system. This heating system is intended to prevent freezing and consequent jamming of the throttle controls.

• Service Bulletins A300-76-0016, Revision 03, dated August 23, 2001 (for certain Airbus Model A300 B2 and B4 series airplanes); A300-76-6002, Revision 02, dated August 23, 2001 (for certain Airbus Model A300 B4-620, B4-622, and C4-620 airplanes); and A310-76-2005, Revision 01, dated March 14, 2000 (for certain Airbus Model A310-203, -221, and -222 airplanes). These service bulletins describe procedures for replacing (with new, improved parts) the roller and rotation pin of the secondary relay lever of the throttle control system. This replacement is intended to prevent stiffness of the throttle controls if the roller fails to rotate.

• Service Bulletins A300-76-6003, Revision 04, dated February 26, 2002 (for certain Airbus Model A300 B4-620 airplanes); and A310-76-2006, Revision 03, dated February 26, 2002 (for certain A310-221, -222, and -322 airplanes). These service bulletins describe procedures for repetitive inspections of the throttle control (push-pull) cable and the rack-box connection to detect any discrepancies, including excessive wear, damage, chafing of the cable in the area of the cable guide, backlash due to excessive wear, and excessive play. If discrepancies are found, the service bulletins specify replacement of the affected part with a new part. These service bulletins refer to Airbus Service Bulletins A300-76-6004, Revision 01, dated October 11, 2000; and A310-76-2007, Revision 02, dated November 24, 1988; respectively; which describe procedures for replacing the existing throttle control cable assembly with a new, improved assembly. Such replacement would eliminate the need for the repetitive inspections described previously.

• Service Bulletins A300-76-6007, Revision 01, dated March 14, 2000 (for certain A300 B4-601, -603, and “605R airplanes); and A310-76-2010, Revision 03, dated August 23, 2001 (for certain A310-204 and -304 airplanes). These service bulletins describe procedures for installing a new cooling duct and a new cooling shroud for the throttle control cable. This installation is intended to prevent deterioration of the throttle control (push-pull) cable due to exposure to excessive heat. These service bulletins refer to GE CF6-80C2 Service Bulletins 71-088, Revision 03, dated March 15, 1991; and 75-021, Revision 03, dated August 5, 1992; for additional service information for accomplishing the installation.

• Service Bulletins A300-76-6009, Revision 02, dated October 29, 1999 (for certain A300 B4-601, B4-603, B4'605R, and C4-605R Variant F airplanes); and A310-76-2012, Revision 02, dated November 5, 2001 (for certain Airbus Model A310-203, -204, and -304 airplanes). These service bulletins describe procedures for installing an elastomer plug filled with grease on the end fitting of the throttle control cable. This installation is intended to prevent accumulation of moisture inside the control cable sleeve due to premature and uneven wear of the throttle control bearing, which could result in freezing and jamming of the throttle control cable.

• Service Bulletin A310-76-2004, Revision 03, dated August 23, 2001 (for certain Airbus Model A310-203 airplanes). This service bulletin describes procedures for installing a sealing sleeve (also called a sealing boot) on the flexible control ball joint of the throttle control cable. The procedures include a visual inspection for deterioration of the throttle control cable, and replacement of the throttle control cable if necessary. The sealing sleeve is intended to prevent accumulation of moisture at the ends of the throttle control cable assembly, which could result in freezing and consequent jamming of the throttle control cable.

Accomplishment of the actions specified in the applicable service bulletins is intended to adequately address the identified unsafe condition. The DGAC classified these service bulletins as mandatory and issued French airworthiness directive 2001-072(B) R2, dated January 23, 2002, to ensure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept us informed of the situation described above. We have examined the findings of the DGAC, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service bulletin described previously, except as discussed below under the heading “Difference Between Proposed AD and Certain Service Bulletins.”

Consistent with the findings of the DGAC, the proposed AD would allow repetitive inspections per Airbus Service Bulletin A300-76-6003, Revision 04, or A310-76-2006, Revision 03, as applicable, to continue in lieu of accomplishing the terminating action per Airbus Service Bulletin A300-76-6004, Revision 01, or A310-76-2007, Revision 02, as applicable. In making this determination, we considered that long-term continued operational safety in this case will be ensured adequately by repetitive inspections to detect any discrepancy of the throttle control cable before it represents a hazard to the airplane.

Difference Between Proposed AD and Certain Service Bulletins

Although Airbus Service Bulletins A300-76-6003, Revision 04, and A310-76-2006, Revision 03, specify to report the results of the backlash check to the Airbus technical representative, this proposed AD would not require such reporting.

Cost Impact

The table below contains the FAA's estimates of the cost impact on U.S. operators of the actions that would be required by the proposed AD, at an average labor rate of $65 per work hour.

Cost Impact: U.S.-Registered Airplanes
Actions in Airbus service bulletin | Work hours | Parts cost | Estimated number of airplanes of U.S. registry | Estimated cost per airplane | Estimated fleet cost
A300-76-0007, Revision 06 | 30 | $0 | 36 | $1,950 | $70,200
A300-76-0015, Revision 02 | 11 | 1,726 | 36 | 2,441 | 87,876
A300-76-0016, Revision 03 | 1 | 193 | 24 | 258 | 6,192
A300-76-6002, Revision 02 | 1 | 80 | 83 | 145 | 12,035
A300-76-6007, Revision 01 | 8 | None | 71 | 520 | 36,920
A300-76-6009, Revision 02 | 6 | 28 | 67 | 418 | 28,006
A310-76-2001, Revision 01 | 11 | 4,469 | 33 | 5,184 | 171,072
A310-76-2004, Revision 03 | 25 | 26 | 25 | 1,651 | 41,275
A310-76-2005, Revision 01 | 1 | 153 | 46 | 218 | 10,028
A310-76-2006, Revision 03 | 2 | None | 16 | 130 | 2,080
A310-76-2012, Revision 02 | 6 | 28 | 25 | 418 | 10,450

Currently, there are no airplanes on the U.S. Register that would be affected by Airbus Service Bulletin A300-76-6003, Revision 04, or A310-76-2010, Revision 03. However, if an affected airplane is imported and placed on the U.S. Register in the future, the table below shows the estimated cost of the actions that would be required by the proposed AD for an affected airplane, at an average labor rate of $65 per work hour.

Potential Cost Impact: Airplane Added to U.S. Register in the Future
Airplanes subject to the actions in Airbus service bulletin | Work hours | Parts cost | Estimated cost per airplane
A300-76-6003, Revision 04 | 2 | $0 | $130
A310-76-2010, Revision 03 | 8 | 0 | 520

If an operator chooses to do the optional terminating action in Airbus Service Bulletin A300-76-6004, Revision 01, or A310-76-2007, Revision 02; rather than continue the repetitive inspections in Airbus Service Bulletin A300-76-6003, Revision 04, or A310-76-2006, Revision 03, respectively; it would take about 20 work hours per airplane to accomplish the optional terminating action, at an average labor rate of $65 per work hour. Required parts would cost about $18,800 per airplane. Based on these figures, we estimate the cost of this optional terminating action to be $20,100 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 2001-NM-216-AD.

Applicability: Airplanes as listed in Table 1 of this AD, certificated in any category.

Table 1.—Applicability
Airplane models | As listed in Airbus Service Bulletin—
A300 B2 and B4 series | A300-76-0007, Revision 06, dated August 23, 2001.
A300 B2 and B4 series | A300-76-0015, Revision 02, dated August 23, 2001.
A300 B2 and B4 series | A300-76-0016, Revision 03, dated August 23, 2001.
A300 B4-620, B4-622, C4-620 | A300-76-6002, Revision 02, dated August 23, 2001.
A300 B4-620 | A300-76-6003, Revision 04, dated February 26, 2002.
A300 B4-601, -603, and -605R | A300-76-6007, Revision 01, dated March 14, 2000.
A300 B4-601, B4-603, B4-605R, and C4-605R Variant F | A300-76-6009, Revision 02, dated October 29, 1999.
A310-203, -204, -221, and -222 | A310-76-2001, Revision 01, dated March 14, 2000.
A310-203 | A310-76-2004, Revision 03, dated August 23, 2001.
A310-203, -221, and -222 | A310-76-2005, Revision 01, dated March 14, 2000.
A310-221, -222, and -322 | A310-76-2006, Revision 03, dated February 26, 2002.
A310-204 and -304 | A310-76-2010, Revision 03, dated August 23, 2001.
A310-203, -204, and -304 | A310-76-2012, Revision 02, dated November 5, 2001.

Compliance: Required as indicated, unless accomplished previously.

To prevent hard points in the throttle control system that could lead to jamming of the throttle control cable, which could result in an asymmetric thrust condition and consequent reduced controllability of the airplane, accomplish the following:

Modifications

(a) Within 22 months after the effective date of this AD, do the actions specified in paragraphs (a)(1), (a)(2), (a)(3), (a)(4), (a)(5), and (a)(6) of this AD; as applicable.

(1) For airplanes listed in Airbus Service Bulletin A300-76-0007, Revision 06, dated August 23, 2001: Install a flexible ice protection boot on the upper fitting of the throttle and fuel shut-off valve control cables in each engine pylon, per the Accomplishment Instructions of that service bulletin.

(2) For airplanes listed in Airbus Service Bulletin A300-76-0015, Revision 02, dated August 23, 2001; or A310-76-2001, Revision 01, dated March 14, 2000: Install a heating system for the throttle control system in each engine pylon, per the Accomplishment Instructions of the applicable service bulletin.

(3) For airplanes listed in Airbus Service Bulletin A300-76-0016, Revision 03, dated August 23, 2001; A300-76-6002, Revision 02, dated August 23, 2001; or A310-76-2005, Revision 01, dated March 14, 2000: Replace, with new improved parts, the roller and rotation pin of the secondary relay lever of the throttle control system in each engine pylon. Accomplish the replacement per the Accomplishment Instructions of the applicable service bulletin.

(4) For airplanes listed in Airbus Service Bulletin A300-76-6007, Revision 01, dated March 14, 2000; or A310-76-2010, Revision 03, dated August 23, 2001. Install a new cooling duct and a new cooling shroud for the throttle control cable, per the instructions in the “Description” section of Airbus Service Bulletin A300-76-6007, Revision 01; or per the Accomplishment Instructions of A310-76-2010, Revision 03; as applicable.

Note 1: Airbus Service Bulletins A300-76-6007, Revision 01; and A310-76-2010, Revision 03; refer to GE CF6-80C2 Service Bulletins 71-088, Revision 03, dated March 15, 1991; and 75-021, Revision 03, dated August 5, 1992; for additional service information for accomplishing the installation of a new cooling duct and a new cooling shroud for the throttle control cable.

(5) For airplanes listed in Airbus Service Bulletin A300-76-6009, Revision 02, dated October 29, 1999; or A310-76-2012, Revision 02, dated November 5, 2001: Install an elastomer plug filled with grease on the end fitting of the throttle control cable in each engine pylon, per the Accomplishment Instructions of the applicable service bulletin.

(6) For airplanes listed in Airbus Service Bulletin A310-76-2004, Revision 03, dated August 23, 2001: Install a sealing sleeve (also called a sealing boot) on the flexible control ball joint of the throttle control cable in each engine pylon (including a detailed inspection for deterioration of the throttle control cable, and replacement of the throttle control cable, as applicable) by doing all actions in the Accomplishment Instructions of the service bulletin, per the Accomplishment Instructions of the service bulletin. Replacement of the throttle control cable, if required, must be accomplished before further flight.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Accomplishment of Required Actions per Previous Service Bulletin Revisions

(b) Actions accomplished before the effective date of this AD per previous service bulletin revisions are acceptable for compliance with paragraph (a) of this AD; as specified in paragraph (b)(1), (b)(2), (b)(3), (b)(4), (b)(5), and (b)(6) of this AD; as applicable.

(1) Accomplishment of the installation required by paragraph (a)(1) of this AD per Airbus Service Bulletin A300-76-007, Revision 05, dated March 14, 2000; is acceptable for compliance with paragraph (a)(1) of this AD.

(2) Accomplishment of the replacement required by paragraph (a)(2) of this AD per Airbus Service Bulletin A300-76-0015, Revision 01, dated March 14, 2000, is acceptable for compliance with paragraph (a)(2) of this AD.

(3) Accomplishment of the replacement required by paragraph (a)(3) of this AD per Airbus Service Bulletin A300-76-016, Revision 02, dated March 14, 2000; or A300-76-6002, Revision 01, dated March 14, 2000; as applicable; is acceptable for compliance with paragraph (a)(3) of this AD.

(4) Accomplishment of the installation required by paragraph (a)(4) of this AD per Airbus Service Bulletin A310-76-2010, Revision 02, dated March 14, 2000, is acceptable for compliance with paragraph (a)(4) of this AD.

(5) Accomplishment of the installation required by paragraph (a)(5) of this AD per Airbus Service Bulletin A300-76-6009, Revision 01, dated March 5, 1999; or A310-76-2012, Revision 01, dated March 5, 1999; as applicable; is acceptable for compliance with paragraph (a)(5) of this AD.

(6) Accomplishment of all actions required by paragraph (a)(6) of this AD (including a detailed inspection for deterioration of the throttle control cable, and replacement of the throttle control cable, as applicable) per Airbus Service Bulletin A310-76-2004, Revision 02, dated March 14, 2000, is acceptable for compliance with paragraph (a)(6) of this AD.

Repetitive Inspections and Corrective Actions if Necessary

(c) For airplanes listed in Airbus Service Bulletin A300-76-6003, Revision 04, dated February 26, 2002; or A310-76-2006, Revision 03, dated February 26, 2002: Within 500 flight hours after the effective date of this AD, do the inspections and corrective actions, as applicable, required by paragraphs (c)(1) and (c)(2) of this AD, according to the Accomplishment Instructions of the applicable service bulletin. Repeat the inspections and corrective actions, as applicable, thereafter at intervals not to exceed 2,000 flight hours, until paragraph (d) of this AD is accomplished. Although Airbus Service Bulletins A300-76-6003, Revision 04, and A310-76-2006, Revision 03, specify to submit certain information to the manufacturer, this AD does not include such a requirement.

(1) Perform a detailed inspection to detect discrepancies of the throttle control cable (also called the “push-pull” cable) and the rack-box connection in each engine pylon, especially in the area of the cable guide having part number 221-1325-501. Discrepancies include excessive wear, damage, chafing of the cable in the area of a cable guide, backlash outside limits specified in the service bulletin, or excessive play. If any discrepancy is found, before further flight, replace the throttle control cable or the rack-box, as applicable, per the applicable service bulletin.

(2) Perform a detailed inspection for wear or play of the power lever of the hydromechanical control in the area where the rack-box drive tang is installed in the power lever. If any wear or play is found, before further flight, tighten the drive tang expansion screw to take up play, per the applicable service bulletin.

Accomplishment of Required Actions per Previous Service Bulletin Revisions

(d) Inspections and corrective actions accomplished before the effective date of this AD per Airbus Service Bulletin A300-76-6003, Revision 02, dated June 5, 2000; or Revision 03, dated November 9, 2000; or A310-76-2006, Revision 02, dated June 5, 2000; as applicable; are acceptable for compliance with paragraph (c) of this AD.

Optional Terminating Action

(e) Replacement of the existing throttle control cable assembly with a new improved assembly, per the Accomplishment Instructions of Airbus Service Bulletin A300-76-6004, Revision 01, dated October 11, 2000; or A310-76-2007, Revision 02, dated November 24, 1988; as applicable; constitutes terminating action for the repetitive inspections required by paragraph (c) of this AD.

Alternative Methods of Compliance

(f) In accordance with 14 CFR 39.19, the Manager, International Branch, ANM-116, Transport Airplane Directorate, FAA, is authorized to approve alternative methods of compliance for this AD.

Note 3: The subject of this AD is addressed in French airworthiness directive 2001-072(B) R2, dated January 23, 2002.

Issued in Renton, Washington, on October 24, 2003.
Vi L. Lipski,
Manager, Transport Airplane Directorate, Aircraft Certification Service.

[FR Doc. 03-27323 Filed 10-29-03; 8:45 am]

BILLING CODE 4910-13-P